DEPARTMENT OF STATE

[Public Notice: 4652]

Office of Visa Services; 60-Day Notice of Proposed Information Collection: Form DS-230, Application for Immigrant Visa and Alien Registration; OMB Control Number 1405-0015

AGENCY: Department of State.

ACTION: Notice.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal to be submitted to OMB:

Type of Request: Extension of currently approved collection.

Originating Office: Bureau of Consular Affairs, Department of State (CA/VO).

Title of Information Collection: Application for Immigrant Visa and Alien Registration.

Frequency: Once per respondent.

Form Number: DS-230.

Respondents: Immigrant visa applicants.

Estimated Number of Respondents: 475,000 per year.

Average Hours Per Response: 2 hours.

Total Estimated Burden: 475,000 hours per year.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information regarding the collection listed in this notice should be directed to Brendan Mullarkey of the Office of Visa Services, U.S. Department of State, 2401 E St. NW., RM L-703, Washington, DC 20520, who may be reached at 202-663-1166.

Dated: March 10, 2004.
Janice L. Jacobs,
Deputy Assistant Secretary of State for Visa Services, Bureau of Consular Affairs, Department of State.

[FR Doc. 04-5901 Filed 3-15-04; 8:45 am]

BILLING CODE 4710-06-P